FEDERAL RESERVE SYSTEM

12 CFR Part 208

[Regulations H and Y; Docket No. R-1156]

Risk-Based Capital Guidelines; Capital Adequacy Guidelines; Capital Maintenance: Interim Capital Treatment of Consolidated Asset-Backed Comercial Paper Program Assets

Correction

In rule document 03-23756 beginning on page 56530 in the issue of Wednesday, October 1, 2003, make the following correction:

Appendix A to Part 208—[Corrected]

On page 56535, in the first column, in appendix A to part 208, in amendatory instruction 2.b.iii., in the last line, “section II. B” should read “section III. B”.

[FR Doc. C3-23756 Filed 5-6-04; 8:45 am]

BILLING CODE 1505-01-D